DEPARTMENT OF AGRICULTURE

Food and Nutrition Service

Agency Information Collection Activities: Supplemental Nutrition Assistance Program Emergency Allotments (COVID-19)

AGENCY: Food and Nutrition Service (FNS), Agriculture (USDA).

ACTION: Notice.

SUMMARY: In accordance with the Paperwork Reduction Act of 1995, this notice invites the general public and other public agencies to comment on this proposed information collection. The Families First Coronavirus Response Act of 2020, enacted March 18, 2020, includes a general provision that allows the Department of Agriculture to issue emergency allotments (EA) based on a public health emergency declaration by the Secretary of Health and Human Services under section 319 of the Public Health Service Act related to an outbreak of COVID-19 when a State has also issued an emergency or disaster declaration. This is a new collection for activities associated with administering emergency allotments.

DATES: Written comments must be received on or before October 26, 2020.

ADDRESSES: Comments may be sent to: Kelly Stewart, Food and Nutrition Service, U.S. Department of Agriculture, via email to Kelly.stewart@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Kelly Stewart at 703-305-2435 or Kelly.stewart@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Abstract

The Families First Coronavirus Response Act of 2020 (Pub. L. 116-127), enacted March 18, 2020, includes a general provision that allows the Department of Agriculture to issue emergency allotments (EA) based on a public health emergency declaration by the Secretary of Health and Human Services under section 319 of the Public Health Service Act related to an outbreak of COVID-19 when a State has also issued an emergency or disaster declaration. The Department obtained approval through an emergency clearance to collect the information as described in this Notice (OMB Control Number 0854-0652; expiration 9/30/2020). USDA anticipates the need to collect the data beyond the expiration date and is seeking approval of this Information Collection Request in order to meet the continuing information collection and reporting requirements detailed in the Families First Coronavirus Response Act of 2020.

As authorized by Families First Coronavirus Response Act of 2020, State agencies impacted by COVID-19 may submit a waiver request to their FNS Regional Office for approval to provide a EA to households to bring all households up to the maximum benefit due to pandemic related economic conditions. State agency waivers will generally be approved under one or more the following conditions as it relates to COVID-19:

• Residents of the State are confirmed to have contracted COVID-19.

• Some or all areas of the State are containment or quarantine zones.

• Businesses have closed or significantly reduced their hours.

• The State's residents have experienced economic impacts due to job suspensions or losses.

• The State's residents have been directed to practice social distancing.

Once the State's waiver has been approved by FNS, the State may provide the EA without contacting the household. Following waiver approval, FNS will require State Agencies to attest to FNS on a monthly basis the EA waiver is still needed. Both the initial waiver and the monthly attestation are conducted via email. FNS expects 53 State agencies will submit one initial EA waiver to FNS. Currently 51 State agencies are operating under an EA waiver. It is possible that States may have more than one declared public health emergency over the next year as COVID-19 rates ebb and flow, therefore we are including hours for these initial waiver requests in this IC as a precautionary measure. Each initial EA waiver submission should take approximately one hour to complete. Each monthly email attesting to the continued need for the EA waiver is expected to take 15 minutes to complete.

Section 18(b) of the Food and Nutrition Act of 2008, as amended, requires that, “In any fiscal year, the Secretary shall limit the value of those allotments issued to an amount not in excess of the appropriation for such fiscal year.” Because the EA waiver increases the monthly benefit of participants above the amount originally anticipated for this fiscal year, the amount of benefits issued and redeemed must be carefully tracked to ensure FNS does not exceed its appropriation. As such, it is necessary for FNS to collect information from State agencies operating EA on a more frequent basis than would be reported normally. Generally, States report disaster-related SNAP participation and issuance data to FNS on the FNS-292B, Report of Disaster Supplemental Nutrition Assistance Benefit Issuance, within 45 days of terminating disaster assistance.

While a State is operating under an EA waiver, FNS requires the State to submit bi-weekly FNS-292B reports. The burden for a State agency to submit FNS-292B reports during normal operations is currently captured under the information collection for the Food Programs Reporting System (FPRS), OMB Control Number 0584-0594 (expiration date 7/31/2023). However, FNS is including the burden for submitting this form more frequently under this information collection.

• FNS-292B—.4 hours per response × 53 State Agencies × 26 weeks = 551 hours.

Respondent category | Instruments | Form | Number of respondents | Frequency of response | Total annual responses | Responses per respondent | Hours per response | Annual burden (hours)
State Agencies | Bi-weekly EA Reporting to FNS | FNS-292B | 53 | 26 | 1,378 | 26 | 0.4 | 551.20
| Initial Waiver Request—Emergency Allotment | N/A | 53 | 1 | 53 | 1 | 1 | 53
| Monthly EA Attestation | N/A | 53 | 12 | 636 | 12 | 0.25 | 159
Total |  |  | 53 | 39 | 2,067 | 39 | 0.369230769 | 763

Affected Public: State, Local and Tribal Governments.

Estimated Number of Respondents: 53.

Estimated Number of Responses per Respondent: 39.

Estimated Total Annual Responses: 2,067.

Estimated Time per Response: .37 hours.

Estimated Total Annual Burden on Respondents: 763.

Pamilyn Miller,
Administrator, Food and Nutrition Service.

[FR Doc. 2020-18859 Filed 8-26-20; 8:45 am]

BILLING CODE 3410-30-P